DEPARTMENT OF TRANSPORTATION

Surface Transportation Board

49 CFR Part 1111

[STB Ex Parte No. 586]

Arbitration—Various Matters Relating To Its Use as an Effective Means of Resolving Disputes That Are Subject to the Board's Jurisdiction

AGENCY: Surface Transportation Board, Transportation.

ACTION: Final rule.

SUMMARY: The Surface Transportation Board (Board) is amending its regulations at 49 CFR part 1111 governing formal complaints to add a requirement that in complaint cases that are potentially arbitrable under the Board's voluntary arbitration process (49 CFR part 1108), the complaint must contain a statement that arbitration was considered, but rejected, as a means of resolving the dispute.

EFFECTIVE DATE: June 21, 2002.

FOR FURTHER INFORMATION CONTACT: Joseph H. Dettmar, (202) 565-1600. (TDD for the hearing impaired: (800) 877-8339).

SUPPLEMENTARY INFORMATION: In this proceeding, in addition to amending its regulations as indicated in the summary, the Board updated its records as to those persons currently available and possessing the requisite qualifications (i.e., those experienced in rail transportation or economic issues similar to those arising before the Board) to serve as an arbitrator under 49 CFR part 1108. A copy of the list can be obtained from the Board's Office of Public Services, Suite 840, Surface Transportation Board, 1925 K Street, NW, Washington, DC 20423-0001; telephone (202) 565-1592.

Additionally, the Board obtained comments from interested parties on whether binding arbitration of small rail rate disputes should be mandated through legislation. The comments reflect a divergence of views on this subject and no areas of consensus. The Board will provide a report to Congress summarizing the comments received.

Additional information is contained in the Board's decision. To purchase a copy of the decision, write to, call or pick up in person from Dā-2-Dā Legal, Room 405, 1925 K Street, NW, Washington, DC 20006, telephone (202) 293-7776. The decision is also posted on the Board's Web site at www.stb.dot.gov.

Small Entities

The Board certifies that this rule will not have a significant economic effect on a substantial number of small entities.

Environment

This action will not significantly affect either the quality of the human environment or the conservation of energy resources.

List of Subjects in 49 CFR part 1111

Administrative practice and procedures.

Authority: 49 U.S.C. 721(a).

Decided: May 20, 2002.
By the Board, Chairman Morgan and Vice Chairman Burkes.
Vernon A. Williams,
Secretary.

For the reasons set forth in the preamble, title 49, chapter X, Part 1111 of the Code of Federal Regulations, is amended as follows:

PART 1111—COMPLAINT AND INVESTIGATION PROCEDURES

1. The authority citation for part 1111 continues to read as follows:

Authority: 49 U.S.C. 721, 10704, and 11701.

2. In § 1111.1(a), paragraph (a)(11) is added to read as follows:

§ 1111.1 Content of formal complaints; joinder.

(a) * * *

(11) For matters for which voluntary, binding arbitration is available pursuant to 49 CFR part 1108, the complaint shall state that arbitration was considered, but rejected, as a means of resolving the dispute.

* * * * *

[FR Doc. 02-13257 Filed 5-24-02; 8:45 am]

BILLING CODE 4915-00-P